DEPARTMENT OF VETERANS AFFAIRS

Advisory Committee on Gulf War Veterans; Notice of Meeting

The Department of Veterans Affairs (VA) gives notice under Public Law 92-463 (Federal Advisory Committee Act) that the Advisory Committee on Gulf War Veterans will meet on September 16-17, 2009, in Room 819 at the Lafayette Building, 811 Vermont Avenue, NW., Washington, DC, from 9 a.m. to 4 p.m. each day. The meeting is open to the public.

The purpose of the Committee is to provide advice and recommendations to the Secretary of Veterans Affairs on issues that are unique to Veterans who served in the Southwest Asia theater of operations during 1990-1991 period of the Gulf War.

The principal purpose of the meeting is to finalize the Committee's report to the Secretary of Veterans Affairs. A public comment period will take place on September 16 from 9:15 a.m.-9:45 a.m.

Individuals wishing to speak must register not later than September 11, 2009 by contacting Lelia Jackson and by submitting 1-2 page summaries of their comments for inclusion in the official record. Public comments will be limited to five minutes each. A sign-in sheet will be available each day. Members of the public may also submit written statements for the Committee's review to the Advisory Committee on Gulf War Veterans, Department of Veterans Affairs, 810 Vermont Avenue, NW., Washington, DC 20420.

Interested parties may also listen in by teleconferencing into the meeting. The toll-free teleconference line will be open daily from 9 a.m. until 4 p.m. (Eastern Standard Time). To register for the teleconference, contact Lelia Jackson at (202) 461-5758 or via e-mail at lelia.jackson@va.gov.

Any member of the public seeking additional information should contact Laura O'Shea, Designated Federal Officer, at (202) 461-5765.

Dated: August 26, 2009.
By Direction of the Secretary.
E. Philip Riggin,
Committee Management Officer.

[FR Doc. E9-20979 Filed 8-28-09; 8:45 am]

BILLING CODE P